DEPARTMENT OF THE TREASURY

Submission for OMB Review; Comment Request

February 16, 2010.

The Department of Treasury will submit the following public information collection requirement(s) to OMB for review and clearance under the Paperwork Reduction Act of 1995, Public Law 104-13, on or after the publication date of this notice. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before March 24, 2010 to be assured of consideration.

Bureau of Public Debt (BPD)

OMB Number: 1535-0114.

Type of Review: Reinstatement without change of a previously approved collection.

Title: Release.

Form: PDF-2001.

Description: Used by the owner, co-owner, or other person entitled to ratify payment of savings bonds/notes and release the United States of America from any liability.

Respondents: Individuals or Households.

Estimated Total Burden Hours: 20 hours.

Clearance Officer: Bruce Sharpe, (304) 480-8150. Bureau of the Public Debt, 200 Third Street, Parkersburg, West Virginia 26106.

OMB Reviewer: Shagufta Ahmed, (202) 395-7873. Office of Management and Budget, Room 10235, New Executive Office Building, Washington, DC 20503.

Celina Elphage,
Treasury PRA Clearance Officer.

[FR Doc. 2010-3308 Filed 2-19-10; 8:45 am]

BILLING CODE 4810-39-P